SMALL BUSINESS ADMINISTRATION

13 CFR Parts 103, 120, and 121

RIN 3245-AG74

Express Loan Programs; Affiliation Standards

AGENCY: U.S. Small Business Administration.

ACTION: Proposed rule; extension of comment period.

SUMMARY: On September 28, 2018, the U.S. Small Business Administration (SBA) published a notice of proposed rulemaking in the Federal Register to solicit public comments on, among other things, Express loan programs and affiliation standards. This document announces the extension of the current comment period for an additional 15 business days until December 18, 2018.

DATES: The comment period for the notice of proposed rulemaking published on September 28, 2018 (83 FR 49001) is extended until December 18, 2018.

ADDRESSES: You may submit comments, identified by RIN 3245-AG74, by any of the following methods: (1) Federal Rulemaking Portal: http://www.regulations.gov. Follow the instructions for submitting comments; or (2) Mail/Hand Delivery/Courier: U.S. Small Business Administration, Attn: Kimberly Chuday or Thomas Heou, Office of Financial Assistance, 409 Third Street SW, 8th Floor, Washington, DC 20416. SBA will post all comments to this notice of proposed rulemaking on http://www.regulations.gov. If you wish to submit confidential business information (CBI) as defined in the User Notice at http://www.regulations.gov, you must submit such information to the U.S. Small Business Administration, Attn: Kimberly Chuday or Thomas Heou, Office of Financial Assistance, 409 Third Street SW, 8th Floor, Washington, DC 20416. Highlight the information that you consider to be CBI and explain why you believe SBA should hold this information as confidential. SBA will review your information and determine whether it will make the information public.

FOR FURTHER INFORMATION CONTACT: Robert Carpenter, Acting Chief, 7(a) Policy & Program Branch, U.S. Small Business Administration, Office of Financial Assistance, 409 3rd Street SW, 8th Floor, Washington, DC 20416; telephone: (202) 619-1654; email: robert.carpenter@sba.gov.

SUPPLEMENTARY INFORMATION: On September 28, 2018, SBA published a notice of proposed rulemaking at 83 FR 49001 to solicit comments on the Express loan program, affiliation standards, and other miscellaneous amendments to SBA business loan programs. This proposed rulemaking, which is identified by RIN 3245-AG74, is also available at https://www.regulations.gov/searchResults?rpp=25&po=0&s=SBA-2018-0009&fp=true&ns=true.

SBA received a formal request from several trade associations that represent participants in SBA's business loan programs to extend the comment period on this proposed rulemaking for an additional 60 days. After considering the request, SBA decided to extend the comment period an additional 15 business days until December 18, 2018. This extension will give commenters additional time to consider the proposed rulemaking and submit comments.

Dianna L. Seaborn,
Director, Office of Financial Assistance.

[FR Doc. 2018-25037 Filed 11-15-18; 8:45 am]

BILLING CODE 8025-01-P